ENVIRONMENTAL PROTECTION AGENCY

[EPA-HQ-OPPT-2015-0233; FRL-9925-36]

Chemical Safety Advisory Committee; Establishment of a Federal Advisory Committee; Request for Nominations

AGENCY: Environmental Protection Agency (EPA).

ACTION: Notice.

SUMMARY: As required by section 9(a)(2) of the Federal Advisory Committee Act (FACA), we are giving notice that EPA recently established the Chemical Safety Advisory Committee (CSAC). The purpose of the CSAC is to provide expert scientific advice, information, and recommendations to the Office of Pollution Prevention and Toxics (OPPT). The major objective is to provide advice and recommendations on: The scientific basis for risk assessments, methodologies, and pollution prevention measures or approaches. EPA has determined that this federal advisory committee is necessary and in the public interest and will assist the EPA in performing its duties and responsibilities. Copies of the CSAC charter will be filed with the appropriate congressional committees and the Library of Congress. EPA invites the public to nominate experts to be considered for the Chemical Safety Advisory Committee.

DATES: Comments must be received on or before July 13, 2015.

ADDRESSES: Submit your nominations, identified by docket identification (ID) number EPA-HQ-OPPT-2015-0233, by one of the following methods:

• Federal eRulemaking Portal: http://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave., NW., Washington, DC 20460-0001.

• Hand Delivery: To make special arrangements for hand delivery or delivery of boxed information, please follow the instructions at http://www.epa.gov/dockets/contacts.html.

Additional instructions on visiting the docket, along with more information about dockets generally, is available at http://www.epa.gov/dockets.

FOR FURTHER INFORMATION CONTACT: Laura Bailey, (7201M), Office of Science Coordination and Policy (OSCP), Office of Chemical Safety and Pollution Prevention (OCSPP), Environmental Protection Agency, 1200 Pennsylvania Ave., NW., Washington, DC 20460-0001, email address: bailey.laura@epa.gov, telephone number: (202) 564-8450.

SUPPLEMENTARY INFORMATION:

I. Executive Summary

A. Does this action apply to me?

This action is directed to the public in general. This action may, however, be of interest to those involved in the manufacture, processing, distribution, disposal, and/or interested in the assessment of risks involving chemical substances and mixtures. Since other entities may also be interested, the Agency has not attempted to describe all the specific entities that may be affected by this action.

B. What is EPA's authority?

This committee is being established under FACA, 5 U.S.C. Appendix 2.

II. Purpose and Function of the Chemical Safety Advisory Committee

The CSAC was established under FACA section 9(a) to provide advice and recommendations on the scientific basis for risk assessments, methodologies, and pollution prevention measures or approaches.

OPPT manages programs under the Toxic Substances Control Act (TSCA), 15 U.S.C. 2601 et seq., and the Pollution Prevention Act (PPA), 42 U.S.C. 13101 et seq. Under these laws, EPA evaluates new and existing chemical substances and their risks, and finds ways to prevent or reduce pollution before it is released into the environment. OPPT also manages a variety of environmental stewardship programs that encourage companies to reduce and prevent pollution.

The CSAC will be composed of approximately ten members who will serve as Regular Government Employees (RGEs) or Special Government Employees (SGEs). The CSAC expects to meet in person or by electronic means (e.g., telephone, videoconference, webcast, etc.) approximately 3 to 4 times a year, or as needed and approved by the Designated Federal Officer (DFO). Meetings will be held in the Washington, DC or Virginia area. The CSAC will be examined annually and will exist until the EPA determines that the CSAC is no longer needed. The charter will be in effect for 2 years from the date it is filed with Congress. After the initial 2-year period, the charter may be renewed as authorized in accordance with section 14 of FACA (5 U.S.C. Appendix 2, Section 14). A copy of the charter will be available on the EPA Web site and in the docket.

III. Nominations Sought

Nominations for membership are being solicited through publication of this document in the Federal Register and through other sources. Any interested person or organization may nominate him or herself or any qualified individual to be considered for the CSAC.

Nominations should include candidates who have demonstrated high levels of competence, knowledge, and expertise in scientific/technical fields relevant to chemical risk assessment and pollution prevention. To the extent feasible, the members will include representation of the following disciplines, including, but not limited to: toxicology, pathology, environmental toxicology and chemistry, exposure assessment, and related sciences, e.g., synthetic biology, pharmacology, biotechnology, nanotechnology, biochemistry, biostatistics, pharmacologically based pharmacokinetic (PBPK) modeling, computational toxicology, epidemiology, environmental fate, and environmental engineering and sustainability. EPA values and welcomes diversity and encourages nominations of women and men of all racial and ethnic groups.

IV. Selection Criteria

In selecting members, EPA will also consider the differing perspectives and breadth of collective experience needed to address EPA's charge to the CSAC, as well as the following:

Demonstrated ability to work constructively and effectively in a committee setting;

Absence of financial conflicts of interest or the appearance of lack of impartiality;

Skills and experience working on committees and advisory panels;

Background and experiences that would contribute to the diversity of viewpoints on the committee, e.g., workforce sector; geographical location; social, cultural, and educational backgrounds; and professional affiliations;

Willingness to commit adequate time for the thorough review of materials provided to the committee; and

Availability to participate in committee meetings.

Names, affiliations and a brief biographical sketch of the nominees selected to serve on the CSAC will be available on the EPA Web site.

Authority: 5 U.S.C. Appendix 2.

Dated: June 4, 2015.
James Jones,
Assistant Administrator, Office of Chemical Safety and Pollution Prevention.

[FR Doc. 2015-14331 Filed 6-11-15; 8:45 am]

BILLING CODE 6560-50-P